ENVIRONMENTAL PROTECTION AGENCY

40 CFR Part 52

[EPA-R05-OAR-2010-0449; FRL-9239-2]

Approval and Promulgation of Air Quality Implementation Plans; Minnesota

AGENCY: Environmental Protection Agency (EPA).

ACTION: Direct final rule.

SUMMARY: EPA is approving a request submitted by the Minnesota Pollution Control Agency (MPCA) on May 7, 2010, to revise the Minnesota State Implementation Plan (SIP) for particulate matter less than 10 microns (PM10). The approval revises the Minnesota SIP by updating information for the Metropolitan Council Environmental Services (MCES) Metropolitan Wastewater Treatment Plant located in St. Paul, Minnesota. The revision reflects changes at the facility which include the decommissioning of six multiple hearth incinerators and associated equipment and the addition of three fluidized bed incinerators and associated equipment. These revisions are included in a joint Title I/Title V document for the MCES Metropolitan Wastewater Treatment Plant, which replaces the document currently approved in the SIP for the facility. These revisions will result in reducing the PM10 emissions in the St. Paul area, and strengthen the existing PM10 SIP.

DATES: This direct final rule will be effective February 14, 2011 unless EPA receives adverse comments by January 18, 2011. If adverse comments are received, EPA will publish a timely withdrawal of the direct final rule in the Federal Register informing the public that the rule will not take effect.

ADDRESSES: Submit your comments, identified by Docket ID No. EPA-R05-OAR-2010-0449, by one of the following methods:

1. www.regulations.gov: Follow the on-line instructions for submitting comments.

2. E-mail: aburano.douglas@epa.gov.

3. Fax: (312) 408-2279.

4. Mail: Douglas Aburano, Chief, Control Strategies Section, Air Programs Branch (AR-18J), U.S. Environmental Protection Agency, 77 West Jackson Boulevard, Chicago, Illinois 60604.

5. Hand Delivery: Douglas Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2010-0449. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Charles Hatten, Environmental Engineer, at (312) 886-6031 before visiting the Region 5 office.

FOR FURTHER INFORMATION CONTACT: Charles Hatten, Environmental Engineer, Control Strategies Section, Air Programs Branch (AR-18J), U.S. Environmental Protection Agency, Region 5, 77 West Jackson Boulevard, Chicago, Illinois 60604, (312) 886-6031, hatten.charles@epa.gov.

SUPPLEMENTARY INFORMATION: Throughout this document whenever “we,” “us,” or “our” is used, we mean EPA. This supplementary information section is arranged as follows:

I. General Information

II. What revision did the State request be incorporated into the SIP?

III. What is EPA's analysis of the State submission?

IV. What action is EPA taking?

V. Statutory and Executive Order Reviews

I. General Information

A. Does this action apply to me?

This action applies only to the MCES Metropolitan Wastewater Treatment Plant located at 2400 Childs Road, St. Paul, Minnesota (Ramsey County).

B. Has public notice been provided?

Minnesota published a public notice of the revisions to the SIP on July 31, 2009. The comment period began on August 1, 2009, and ended on August 31, 2009. In the public notice, Minnesota stated it would hold a public hearing if one was requested during the comment period. This follows the alternative public participation process EPA approved on June 5, 2006 (71 FR 32274). For limited types of SIP revisions that are noncontroversial and for which the public has shown little or no interest, a public hearing is not automatically required. Because no one requested a public hearing, Minnesota did not hold a public hearing.

C. What is the background to this action?

The MCES Metropolitan Wastewater Treatment Plant was found to be a culpable source in the Childs Road area's nonattainment plan for the PM10 National Ambient Air Quality Standard (NAAQS). However, the area currently meets the NAAQS for PM10, and was officially redesignated as attainment on September 24, 2002.

The MCES Metropolitan Wastewater Treatment Plant is an advanced secondary waste water treatment plant. This plant is the principal sewage treatment facility for the Minneapolis and St. Paul metropolitan area serving more than 80 percent of the area's sewered population, as well as commercial, institutional, and industrial wastewater generators. The plant has a permitted average wet weather design flow of 314 million gallons per day. Primary and secondary sludges from the waste water treatment process, as well as sludges from other MCES treatment facilities, are blended and thickened prior to incineration on-site.

The primary source of emissions at this plant is the incineration of sewage sludge, along with small amounts of spent activated carbon and scum generated on-site in three fluidized bed sludge reactors (FBRs). Each identical FBR is equipped with a pollution control train consisting of carbon injection, high temperature fabric filter baghouse, a venturi scrubber and a high efficiency wet electrostatic precipitator. Each FBR is capable of processing 130 dry tons of sewage sludge per day. The FBRs normally fire natural gas as an auxiliary fuel, but are capable of utilizing No. 2 fuel oil. Emissions also result from aeration of the wastewater during the treatment process, operation of two auxiliary steam boilers for plant heating, operation of emergency generators, ash and other material handling, fuel storage activities, and other routine maintenance activities.

II. What revision did the State request be incorporated into the SIP?

The State has requested that EPA approve, as a revision to the Minnesota SIP, a new joint Title I/Title V document, Air Permit No. 12300053-006, to replace the joint Title I/Title V document currently approved into the SIP. The new joint document incorporates changes to reflect current operating conditions and the applicable PM10 SIP conditions for MCES Metropolitan Wastewater Treatment Plant. The biggest change to the facility included replacing the six multiple hearth sludge incinerators, identified as emission units EU008 to EU013, with three FBRs, identified as emission units EU035 to EU037.

A. What prior SIP actions are pertinent to this action?

The MCES Metropolitan Wastewater Treatment Plant in St. Paul, Minnesota, has been subject to a federally enforceable permit incorporated into Minnesota's SIP as a joint Title I/Title V document, containing requirements for ensuring maintenance of the NAAQS for PM10. In 2001, the joint Title I/Title V document, Air Permit No. 12300053-001, incorporated operating conditions and the applicable PM10 SIP conditions for the MCES Metropolitan Wastewater Treatment Plant. The 2001 joint document included in the SIP was based on plant operations using multiple hearth incinerators. The limited potential emissions of PM10 from the facility, considering all permit limitations, was 184.9 tons per year (tpy). Prior to the issuance of the 2001 joint document, EPA and the MCES Metropolitan Wastewater Treatment Plant had entered into a consent decree (65 FR 52787), which imposed compliance measures and called for the replacement of the multiple hearth incinerators with new FBRs. The new FBRs were permitted in 2002.

Other changes at MCES Metropolitan Wastewater Treatment Plant since 2001 include the decommissioning of ash handling systems (EU016-EU018), housekeeping vacuum system (EU033), multiple hearth auxiliary fuel feed systems (EU027-EU032), two auxiliary boilers (EU14-EU015), and rotating biological system contractors and sedimentation tanks (EU0005-EU007); and, the installation of sludge alkaline stabilization processing equipment (EU038-EU041), sludge centrifuge processing equipment (EU051-EU053), ash and other materials handling equipment (EU045-EU050), two replacement auxiliary boilers (EU042 and EU043), and an additional emergency back-up diesel generator.

The SIP requirements in the joint Title I/Title V document submitted by MPCA are designated as “Title I Condition: SIP for PM10 NAAQS” making it clear that the term is part of the SIP's source-specific requirements.

B. What are Title I conditions and joint Title I/Title V documents?

SIP control measures were contained in permits issued to culpable sources in Minnesota until 1990 when EPA determined that limits in state-issued permits are not federally enforceable because the permits expire. Minnesota then issued permanent Administrative Orders to culpable sources in nonattainment areas from 1991 to February of 1996.

Minnesota's consolidated permitting regulations, approved into its SIP on May 2, 1995 (60 FR 21447), include the term “Title I condition” which was written, in part, to satisfy EPA requirements that SIP control measures remain permanent. A “Title I condition” is defined as “any condition based on source-specific determination of ambient impacts imposed for the purposes of achieving or maintaining attainment with the national ambient air quality standard and which was part of the state implementation plan approved by EPA or submitted to the EPA pending approval under section 110 of the act * * *.” The rule also states that “Title I conditions and the permittee's obligation to comply with them, shall not expire, regardless of the expiration of the other conditions of the permit.” Further, “any title I condition shall remain in effect without regard to permit expiration or reissuance, and shall be restated in the reissued permit.”

Minnesota has initiated using joint Title I/Title V documents as the enforceable document for imposing emission limitations and compliance requirements in SIPs. The SIP requirements in joint Title I/Title V documents submitted by MPCA are cited as “Title I conditions,” therefore ensuring that SIP requirements remain permanent and enforceable. EPA reviewed the State's procedure for using joint Title I/Title V documents to implement site-specific SIP requirements and found it to be acceptable under both Titles I and V of the Clean Air Act (CAA) (July 3, 1997 letter from David Kee, EPA, to Michael J. Sandusky, MPCA). Further, a June 15, 2006, letter from EPA to MPCA clarifies procedures to transfer requirements from Administrative Orders to joint Title I/Title V documents.

III. What is EPA's analysis of the State submission?

This SIP revision replaces the joint Title I/Title V document currently approved into the SIP for MCES Metropolitan Wastewater Treatment Plant with a new joint Title I/Title V document, Air Permit No.12300053-006. This document reflects current operating conditions and applicable PM10 SIP conditions for the MCES Metropolitan Wastewater Treatment Plant. The facility now operates three FBRs, replacing the six multiple hearth sludge incinerators, two new auxiliary boilers, new alkaline stabilization process equipment, new sludge centrifuge processing equipment, new ash handling equipment, and an additional emergency back-up diesel generator.

The facility remains subject to several ongoing SIP conditions, and some new or more stringent SIP conditions have been added; these conditions limit PM10 emissions that ensure that the NAAQS for PM10 are maintained. Conditions for recordkeeping, performance testing, and reporting of deviations from SIP conditions have been maintained.

Reduced PM10 Limits

The six multiple hearth incinerators, replaced with three FBRs, were previously limited to 1.20 pounds of PM10 per ton of dry sludge charged. Each unit generally charged 90 dry tons of sludge per day, resulting in total emissions of 19.7 tpy of PM10 per unit, and a total of 118.3 tpy of PM10. The three new FBRs are each limited to 2.01 pounds of PM10 per hour. If these units were to operate 8,760 hours in a year, that would result in 8.8 tpy of PM10 per unit or 26.4 tpy for all three FBRs combined.

The auxiliary boilers were previously each subject to a PM10 limit of 0.10 pounds of PM10 per million Btu heat input; this resulted in 5.7 tpy of PM10 per unit. The replacement boilers are subject to a limit of 15.37 pounds per million pounds of steam. For these boilers, this equals about 1.23 pounds per hour per boiler (or 5.4 tpy).

The new alkaline stabilization process and the ash handling system PM10 emissions are limited to 0.005 grains/dry standard cubic feet (grains/dscf), respectively. The prior alkaline stabilization process and ash handling system each had a SIP emission limit for PM10 of 0.05 grains/dscf.

Overall, the changes noted in this SIP revision do not increase total PM10 emission limits. Instead, the potential emissions of PM10 for the MCES Metropolitan Wastewater Treatment Plant, considering all permit limitations, are reduced from 184.9 tpy to 47.8 tpy.

Air Quality Analysis

Because some of the changes being made to the facility may affect the release and dispersion of PM10 emissions, MCES Metropolitan Wastewater Treatment Plant provided an air quality analysis to address the facility's impact on the PM10 NAAQS. All the changes to the facility were completed in 2002. Air quality modeling was performed in 2001 and 2002 using the ISCST3 dispersion model. The modeling used five years of surface meteorological data from the Minneapolis/St. Paul airport and upper air data from St. Cloud, 1987-1991. The model was run with urban dispersion coefficients and regulatory default options. The high, sixth high 24-hour PM10 modeled concentration for the MCES Metropolitan Wastewater Treatment Plant, plus a conservative background concentration, was 107.1 micrograms per cubic meter (μg/m³). This value is below the 24-hour PM10 standard of 150 μg/m³. The modeled result for the annual standard, including background, was 32.5 μg/m³, which was below the annual PM10 standard of 50 μg/m³. The annual PM10 standard was revoked in 2006.

IV. What action is EPA taking?

EPA is approving the revision to Minnesota's SIP to replace the joint Title I/Title V document currently approved into the SIP for MCES Metropolitan Wastewater Treatment Plant with a new joint Title I/Title V document, Air Permit No. 12300053-006. The updated information in the new joint document will incorporate changes to reflect current operating conditions and the applicable PM10 SIP conditions for MCES Metropolitan Wastewater Treatment Plant. In approving this joint Title I/Title V document, EPA is incorporating into the SIP only those requirements in the joint document labeled as “Title I Condition: SIP for PM10 NAAQS.”

Since this SIP revision will decrease PM10 impacts in the St. Paul area, MCES Metropolitan Wastewater Treatment Plant revision will strengthen the existing PM10 SIP.

We are publishing this action without prior proposal because we view this as a noncontroversial amendment and anticipate no adverse comments. However, in the proposed rules section of this Federal Register publication, we are publishing a separate document that will serve as the proposal to approve the state plan if relevant adverse written comments are filed. This rule will be effective February 14, 2011 without further notice unless we receive relevant adverse written comments by January 18, 2011. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective February 14, 2011.

V. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 14, 2011. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: December 3, 2010.
Susan Hedman,
Regional Administrator, Region 5.

40 CFR part 52 is amended as follows:

PART 52—[AMENDED]

1. The authority citation for part 52 continues to read as follows:

Authority: 42 U.S.C. 7401 et seq.

Subpart Y—Minnesota

2. In § 52.1220 the table in paragraph (d) is amended by revising the entry for “Metropolitan Council Environmental Services Metropolitan Wastewater Treatment Plant North Star Steel” to read as follows:

§ 52.1220 Identification of plan.

* * * * *

(d) * * *

EPA-Approved Minnesota Source-Specific Permits
Name of source | Permit No. | State effective date | EPA Approval date | Comments
* * * * * * *
Metropolitan Council Environmental Services Metropolitan Wastewater Treatment Plant | 12300053-006 | 02/25/10 | 12/16/10, [Insert page number where the document begins] | Only conditions cited as “Title I condition: SIP for PM10 NAAQS.”
* * * * * * *

* * * * *

[FR Doc. 2010-31345 Filed 12-15-10; 8:45 am]

BILLING CODE 6560-50-P